DEPARTMENT OF AGRICULTURE

Animal and Plant Health Inspection Service

9 CFR Part 94

[Docket No. APHIS-2008-0147]

Change in Disease Status of the Republic of Korea With Regard to Foot-and-Mouth Disease and Rinderpest

AGENCY: Animal and Plant Health Inspection Service, USDA.

ACTION: Final rule; delay of effective date.

SUMMARY: On December 28, 2009, we published a final rule in the Federal Register to add the Republic of Korea to the list of regions that are considered free of rinderpest and foot-and-mouth disease (FMD) and the list of regions that are subject to certain import restrictions on meat and meat products because of their proximity to or trading relationships with rinderpest- or FMD-affected countries. The final rule was scheduled to become effective on January 12, 2010. However, due to an outbreak of FMD reported by the Republic of Korea on January 6, 2010, we are delaying indefinitely the effective date of the final rule. This delay will allow the Animal and Plant Health Inspection Service to consider the issues raised by this development and decide what subsequent actions to take.

DATES: The effective date for the final rule amending 9 CFR part 94 published at 74 FR 68478-68480 on December 28, 2009, is delayed indefinitely.

FOR FURTHER INFORMATION CONTACT: Dr. Julia Punderson, Senior Staff Veterinarian, Regionalization Evaluation Services, National Center for Import and Export, VS, APHIS, 4700 River Road Unit 38, Riverdale, MD 20737-1231; (301) 734-4356.

SUPPLEMENTARY INFORMATION:

Background

In a final rule¹ published in the Federal Register on December 28, 2009 (74 FR 68478-68480, Docket No. APHIS-2008-0147), we amended the regulations in 9 CFR part 94 concerning the importation of animals and animal products by adding the Republic of Korea (South Korea) to the list in § 94.1 of regions declared free of FMD and rinderpest. We also added the Republic of Korea to the list in § 94.11 of regions that are declared to be free of these diseases, but that are subject to certain restrictions because of their proximity to or trading relationships with rinderpest- or FMD-affected regions.

¹ To view the final rule and related documents, go to (http://www.regulations.gov/fdmspublic/component/main?main=DocketDetail&d=APHIS-2008-0147).

The final rule was scheduled to become effective on January 12, 2010. However, on January 6, 2010, the Republic of Korea confirmed through laboratory diagnosis that an FMD outbreak occurred on a dairy farm in Kyonggi Province. As a consequence, we no longer consider the Republic of Korea to be free of FMD. Therefore, we are delaying the effective date of the final rule indefinitely. This delay will allow the Animal and Plant Health Inspection Service to consider the issues raised by this development and decide what subsequent actions to take.

Accordingly, the final rule amending 9 CFR part 94 published at 74 FR 68478-68480 on December 28, 2009, is delayed indefinitely.

Authority: 7 U.S.C. 450, 7701-7772, 7781-7786, and 8301-8317; 21 U.S.C. 136 and 136a; 31 U.S.C. 9701; 7 CFR 2.22, 2.80, and 371.4.

Done in Washington, DC, this 8th day of January 2010.

Kevin Shea
Acting Administrator, Animal and Plant Health Inspection Service.

[FR Doc. 2010-478 Filed 1-8-10: 4:15 pm]

BILLING CODE 3410-34-S